ENVIRONMENTAL PROTECTION AGENCY

[FRL-6535-9]

Agency Information Collection Activities: Proposed Collection; Comment Request; Landfill Methane Outreach Program ICR

AGENCY: Environmental Protection Agency (EPA).

ACTION: Notice.

SUMMARY: In compliance with the Paperwork Reduction Act (44 U.S.C. 3501 et seq.), this document announces that EPA is planning to submit the following proposed Information Collection Request (ICR) to the Office of Management and Budget (OMB): The Landfill Methane Outreach Program ICR, EPA ICR #1849.02. Before submitting the ICR to OMB for review and approval, EPA is soliciting comments on specific aspects of the proposed information collection as described below.

DATES: Comments must be submitted on or before April 14, 2000.

ADDRESSES: One original and one copy of each comments may be mailed to The Docket Clerk, Air Docket, #A-2000-11, MC 6102, USEPA, The Ariel Rios Building, 1200 Pennsylvania Avenue, NW, Washington DC 20460. Comments may also be hand delivered to the Air Docket, located in Room M1500, 401 M Street, SW, Washington DC. The telephone number of the Air Docket is (202) 260-7548, and the hours of operation are 8 to 5:30 pm. To obtain a copy of the ICR without charge, contact Brian Guzzone at (202) 564-2666.

FOR FURTHER INFORMATION CONTACT: Brian Guzzone, U.S. Environmental Protection Agency, Office of Atmospheric Programs, Climate Protection Division (6202J), Ariel Rios Building, 1200 Pennsylvania Avenue, NW, Washington, DC 20460, or call (202) 564-2666.

SUPPLEMENTARY INFORMATION: Affected entities: Entities affected by this action are landfill gas-to-energy project developers, landfill owners/operators, and landfill gas energy customers that have joined the EPA Landfill Methane Outreach Program as Allies or Partners.

Title: Landfill Methane Outreach Program ICR (EPA ICR No.1849.02).

Abstract: The Landfill Methane Outreach Program is an EPA-sponsored voluntary program that encourages landfill owners, communities, and project developers to implement methane recovery technologies to utilize the methane as a source of fuel and to reduce emissions of methane, a potent greenhouse gas. The Landfill Methane Outreach Program further encourages utilities and other energy customers to support and promote the use of landfill methane at their facilities. The Landfill Methane Outreach Program signs voluntary Memoranda of Under-standing with these organizations to enlist their support in promoting cost-effective landfill gas utilization. An agency may not conduct or sponsor, and a person is not required to respond to, a collection of information unless it displays a currently valid OMB control number. The OMB control numbers for EPA's regulations are listed in 40 CFR part 9 and 48 CFR Chapter 15.

The EPA would like to solicit comments to:

(i) evaluate whether the proposed collection of information is necessary for the proper performance of the functions of the agency, including whether the information will have practical utility;

(ii) evaluate the accuracy of the agency's estimate of the burden of the proposed collection of information, including the validity of the methodology and assumptions used;

(iii) enhance the quality, utility, and clarity of the information to be collected; and

(iv) minimize the burden of the collection of information on those who are to respond, including through the use of appropriate automated electronic, mechanical, or other technological collection techniques or other forms of information technology, e.g., permitting electronic submission of responses.

Burden Statement: The estimated average public burden per respondent for Allies and Partners is 5 hours per response, including the time for reviewing instructions, searching existing data sources, gathering the necessary data, and completing the collection of information. The estimated number of respondents is 250. About 50 of these respondents would respond annually, with the other 200 responding on a one-time basis. The total estimated cost is $165,000, including start-up and annual costs for all respondents over an expected seven year reporting time frame. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: February 2, 2000.
Dina Kruger,
Chief, Methane Energy Branch.

[FR Doc. 00-3361 Filed 2-11-00; 8:45 am]

BILLING CODE 6560-50-P